DEPARTMENT OF DEFENSE

Department of the Army

[Docket ID: USA-2016-HQ-0026]

Proposed Collection; Comment Request

AGENCY: Assistant G-1 for Civilian Personnel, Non-Appropriated Funds Policy and Programs Division, DoD.

ACTION: Notice.

SUMMARY: In compliance with the Paperwork Reduction Act of 1995, Assistant G-1 for Civilian Personnel, Non-Appropriated Funds Policy and Programs Division announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by August 26, 2016.

ADDRESSES: You may submit comments, identified by docket number and title, by any of the following methods:

• Federal eRulemaking Portal: http://www.regulations.gov. Follow the instructions for submitting comments.

• Mail: Department of Defense, Office of the Deputy Chief Management Officer, Directorate for Oversight and Compliance, 4800 Mark Center Drive, ATTN: Mailbox 24, Alexandria, VA 22350-1700.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Department of the Army, Assistant G-1 for Civilian Personnel, Non-Appropriated Funds Policy and Programs Division, ATTN: DAPE-CPN, 6010 6th Street, Building 1465, Fort Belvoir, VA 33060, or call 703-806-3097.

SUPPLEMENTARY INFORMATION: Title; Associated Form; and OMB Number: Application for Non-Appropriated Funds Employment, DA Form 3433; OMB Control Number: 0702-XXXX.

Needs And Uses: The information collection requirement is necessary to determine qualification requirements and suitability of an applicant seeking employment with Non-Appropriated Funds Instrumentalities.

Affected Public: Individuals or Households; Federal Government.

Annual Burden Hours: 158,875.

Number of Respondents: 317,751.

Responses per Respondent: 1.

Annual Responses: 317,751.

Average Burden per Response: 30 minutes.

Frequency: On occasion.

Respondents are applicants seeking employment with Non-Appropriated Funds Instrumentalities. DA Form 3433, Application for Non-Appropriated Funds Employment, records employment history and qualifications of applicants to determine their eligibility for employment. The completed form is maintained electronically in the Official Personnel Folder system for the selected applicants upon appointment, and for non-selected applicants, the application is maintained in the staffing case file and destroyed after 1 year.

Dated: June 22, 2016.
Aaron Siegel,
Alternate OSD Federal Register Liaison Officer, Department of Defense.

[FR Doc. 2016-15122 Filed 6-24-16; 8:45 am]

BILLING CODE 5001-06-P